FEDERAL TRADE COMMISSION

[Docket No. 9303]

Lentek International, Inc., et al.; Analysis To Aid Public Comment

AGENCY: Federal Trade Commission.

ACTION: Proposed consent agreement.

SUMMARY: The consent agreement in this matter settles alleged violations of federal law prohibiting unfair or deceptive acts or practices or unfair methods of competition. The attached Analysis to Aid Public Comment describes both the allegations in the complaint and the terms of the consent order—embodied in the consent agreement—that would settle these allegations.

DATES: Comments must be received on or before March 5, 2003.

ADDRESSES: Comments filed in paper form should be directed to: FTC/Office of the Secretary, Room 159-H, 600 Pennsylvania Avenue, NW., Washington, DC 20580. Comments filed in electronic form should be directed to: consentagreement@ftc.gov, as prescribed below.

FOR FURTHER INFORMATION CONTACT: Elena Paoli or Carol Jennings, FTC, Bureau of Consumer Protection, 600 Pennsylvania Avenue, NW., Washington, DC 20580, (202) 326-2974 or (202) 326-3010.

SUPPLEMENTARY INFORMATION: Pursuant to Section 6(f) of the Federal Trade Commission Act, 38 Stat. 721, 15 U.S.C. 46(f), and § 3.25(f) of the Commission's Rules of Practice, 16 CFR 3.25(f), notice is hereby given that the above-captioned consent agreement containing a consent order to cease and desist, having been filed with and accepted, subject to final approval, by the Commission, has been placed on the public record for a period of thirty (30) days. The following Analysis to Aid Public Comment describes the terms of the consent agreement, and the allegations in the complaint. An electronic copy of the full text of the consent agreement package can be obtained from the FTC Home Page (for February 4, 2003), on the World Wide Web, at http://www.ftc.gov/os/2003/02/index.htm. A paper copy can be obtained from the FTC Public Reference Room, Room 130-H, 600 Pennsylvania Avenue, NW., Washington, DC 20580, either in person or by calling (202) 326-2222.

Public comments are invited, and may be filed with the Commission in either paper or electronic form. Comments filed in paper form should be directed to: FTC/Office of the Secretary, Room 159-H, 600 Pennsylvania Avenue, NW., Washington, DC 20580. If a comment contains nonpublic information, it must be filed in paper form, and the first page of the document must be clearly labeled “confidential.” Comments that do not contain any nonpublic information may instead be filed in electronic form (in ASCII format, WordPerfect, or Microsoft Word) as part of or as an attachment to e-mail messages directed to the following e-mail box: consentagreement@ftc.gov. Such comments will be considered by the Commission and will be available for inspection and copying at its principal office in accordance with Section 4.9(b)(6)(ii) of the Commission's Rules of Practice, 16 CFR 4.9(b)(6)(ii)).

Analysis of Proposed Consent Order To Aid Public Comment

The Federal Trade Commission has accepted, subject to final approval, an agreement to a proposed consent order by respondents Lentek International, Inc., Joseph Durek, individually, and Lou Lentine, individually and as an officer of the corporation.

The proposed consent order has been placed on the public record for thirty (30) days for reception of comments by interested persons. Comments received during this period will become part of the public record. After thirty (30) days, the Commission will again review the agreement and the comments received and will decide whether it should withdraw from the agreement and take other appropriate action or make final the agreement's proposed order.

This matter concerns practices related to the advertising, offering for sale, sale, and distribution of various air cleaning products and ultrasonic/electromagnetic pest control devices. The Commission's complaint charged that respondents violated the Federal Trade Commission Act, 15 U.S.C. 41 et seq., by making numerous representations that were false and/or for which they lacked a reasonable basis of substantiation. These representations concerned the following: the ability of Lentek's Sila Air Cleaning Products to eliminate various pollutants from indoor air; the health benefits of using the Sila Air Cleaning Products; the ability of Lentek's PestContro products to repel or eliminate various animal or insect pests from a user's home or outdoor space; the ability of various PestContro products to eliminate animal or insect pests within a space of a given size; the ability of the electromagnetic devices to drive away pests by altering the electromagnetic field inside the walls and wiring of a home; the ability of Lentek's MosquitoContro Products to repel mosquitoes from a user's body; and that the MosquitoContro Products are an effective alternative to the use of chemical pesticides or other products formulated to kill or repel mosquitoes in the prevention of West Nile Virus.

Part I of the proposed order prohibits any representation that any air cleaning product will eliminate, remove, clear, clean, neutralize, sanitize, oxidize, control, or reduce any indoor air pollutant, or that use of such product will prevent, reduce the incidence of, or provide relief from any medical or health-related condition, unless respondents possess competent and reliable scientific evidence that substantiates the representation.

Part II of the proposed order prohibits any representation that PestContro products (or similar pest control products utilizing sonic, ultrasonic, and/or electromagnetic technology) will repel, control, or eliminate, temporarily or indefinitely, any rodent, insect, or other animal pest, or that they will do so in an area of a certain size, unless respondents possess competent and reliable scientific evidence that substantiates the representation.

Part III of the proposed order prohibits any representation that PestContro products, or substantially similar products, will alter the electromagnetic field inside the walls or wiring of a home in a manner that drives away insects, rodents, and other animal pests, unless the representation is true and respondents possess competent and reliable scientific evidence that substantiates the representation.

Part IV of the proposed order prohibits any representation that MosquitoContro products, or substantially similar products, will repel mosquitoes from a user's body, or that such products are an effective alternative to the use of chemical pesticides or other products formulated to kill or repel mosquitoes, unless the representation is true and respondents possess competent and reliable scientific evidence that substantiates the representation.

Part V of the proposed order prohibits unsubstantiated representations about the benefits, performance, or efficacy of any product.

Part VI of the proposed order is a record keeping provision that requires the respondents to maintain certain records for five (5) years after the last date of dissemination of any representation covered by the order. These records include: (1) All advertisements and promotional materials containing the representation; (2) all materials relied upon in disseminating the representation; and (3) all evidence in respondents' possession or control that contradicts, qualifies, or calls into question the representation or the basis for it.

Part VII of the proposed order requires distribution of the order to current and future principals, officers, directors, and managers, and to current and future employees, agents, and representatives having responsibilities with respect to the subject matter of the order.

Part VIII of the proposed order requires that the Commission be notified of any change in the corporation that might affect compliance obligations under the order. Part IX of the proposed order requires that for a period of ten (10) years, each individual respondent notify the Commission of the discontinuance of his current business or employment or of his affiliation with any new business or employment involving the sale of consumer products or services.

Part X of the proposed order requires the respondents to file a compliance report with the Commission.

Part XI of the proposed order states that, absent certain circumstance, the order will terminate twenty (20) years from the date it is issued.

The purpose of this analysis is to facilitate public comment on the proposed consent order. It is not intended to constitute an official interpretation of the agreement and proposed order or to modify their terms in any way.

By direction of the Commission.
Donald S. Clark,
Secretary.

[FR Doc. 03-3163 Filed 2-7-03; 8:45 am]

BILLING CODE 6750-01-P